DEPARTMENT OF HEALTH AND HUMAN SERVICES

Centers for Disease Control and Prevention

[30Day-08-07BN]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC, or by fax to (202) 395-6974. Written comments should be received within 30 days of this notice.

Proposed Project

Study to Assess Hepatitis Risk (STAHR)—New—National Center for AIDS Viral Hepatitis and TB Prevention, (NCHHSTP), Centers for Disease Control and Prevention (CDC).

Background and Brief Description

Hepatitis C is the most prevalent bloodborne infection in the United States. Approximately 3.2 million persons are chronically infected with hepatitis C virus (HCV).

Identifying and reaching persons at risk for HCV infection is critical to prevent infection. Currently the Centers for Disease Control and Prevention (CDC) monitor the national incidence of acute hepatitis C through passive surveillance of acute, symptomatic cases of laboratory confirmed hepatitis C cases. However, only a small group of people with acute infection exhibit symptoms (<25%). Passive surveillance only captures a small fraction of acutely infected people. Injection drug users (IDUs) are the primary risk group for acute hepatitis C. Thus, it is necessary to consider strategies other than passive surveillance for incidence monitoring. One such strategy is to conduct serial cross-sectional seroprevalence surveys among populations at increased risk of infection. Better methods of identification of persons at risk will enhance current surveillance efforts.

The purpose of the proposed study is to develop and test different methods to recruit a sample of young IDUs at risk for HCV infection. These recruitment methods will be compared and contrasted to identify a methodology to be used in ongoing serial cross-sectional seroprevalence surveys. CDC is requesting approval for two years.

Working with the University of California, San Diego (UCSD), the project will recruit a total of 1000 young IDUs during the 2 years using several methods. These methods are street outreach, respondent driven sampling and venue based. They are to be conducted in a sexually transmitted disease clinic and syringe exchange program. Young IDUs who consent to participate will be administered an eligibility interview questionnaire by a trained field staff member. If found eligible, the participant will take an audio-computer assisted self interview that includes questions on drug use and sexual behavior, HCV and Human Immunodeficiency Virus (HIV) status, knowledge of HCV, and missed opportunities for hepatitis prevention. The project will also collect blood samples from each consenting participant to test for HCV infection and hepatitis A and B vaccination without cost. Participants needing medical and/or drug treatment services will be referred to the appropriate services.

Participation in the data collection is voluntary and there is no cost to respondents other than their time. The total estimated annual burden hours are 816.

Estimated Annualized Burden Hours
Respondents | Form | Number of respondents | Number of responses per respondent | Average burden per response (in hours)
Young IDUs | Screener | 1000 | 1 | 5/60
Eligible young IDUs | Survey | 800 | 1 | 55/60

Dated: July 1, 2008.
Maryam I. Daneshvar,
Acting Reports Clearance Officer, Centers for Disease Control and Prevention.

[FR Doc. E8-15630 Filed 7-9-08; 8:45 am]

BILLING CODE 4163-18-P